DEPARTMENT OF ENERGY

Federal Energy Regulatory Commission

[Docket No. EL12-51-000]

Southwest Power Pool, Inc.; Notice of Initiation of Proceeding and Refund Effective Date

On April 6, 2012, the Commission issued an order that initiated a proceeding in Docket No. EL12-51-000, pursuant to section 206 of the Federal Power Act (FPA), 16 U.S.C. 824e (2006), to determine the justness and reasonableness of the proposed rate reduction by Southwest Power Pool, Inc. Southwest Power Pool, Inc., 139 FERC ¶ 61,016 (2012).

The refund effective date in Docket No. EL12-51-000, established pursuant to section 206(b) of the FPA, will be the date of publication of this notice in the Federal Register.

Dated: April 6, 2012.
Nathaniel J. Davis, Sr.,
Deputy Secretary.

[FR Doc. 2012-8958 Filed 4-12-12; 8:45 am]

BILLING CODE 6717-01-P